DEPARTMENT OF THE INTERIOR

National Park Service

[NPS-WASO-NAGPRA-NPS0032043; PPWOCRADN0-PCU00RP14.R50000]

Notice of Inventory Completion: The University of California, Berkeley; Berkeley, CA

AGENCY: National Park Service, Interior.

ACTION: Notice.

SUMMARY: The University of California, Berkeley has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the University of California, Berkeley. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the University of California, Berkeley at the address in this notice by July 8, 2021.

FOR FURTHER INFORMATION CONTACT: Dr. Thomas Torma; University of California, Berkeley; Office of the Vice Chancellor for Research, 119 California Hall, Berkeley, CA 94720-1500, telephone (510) 672-5388, email t.torma@berkeley.edu.

SUPPLEMENTARY INFORMATION: Notice is here given in accordance with the Native American Graves Protection and Repatriation Act (NAGPRA), 25 U.S.C. 3003, of the completion of an inventory of human remains and associated funerary objects under the control of the University of California, Berkeley, Berkeley, CA. The human remains and associated funerary objects were removed from Mercer County, NJ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the University of California, Berkeley professional staff in consultation with representatives of the Delaware Nation, Oklahoma; Delaware Tribe of Indians; and the Stockbridge Munsee Community, Wisconsin (hereafter referred to as “The Tribes”).

History and Description of the Remains

In 1904, human remains representing, at minimum, four individuals were removed from Major Woodward's Farm and Squire Willey's Farm in Mercer County, NJ. They were collected by Ernest Volk as part of his annual excavations in the area. Although in most years during his 22-year-long study, Volk's work was done under the supervision of Frederick Ward Putnam at Harvard University, for some unknown reason, all the materials Volk collected in 1904 were sent to the University of California. The human remains belong to four individuals of unknown age and sex. No known individuals were identified. The 713 associated funerary objects are one axe; one set of faunal remains; 87 pieces of flake and cobble; 109 pieces of flake and gravel; 190 pieces of flake and comb fragment; six pieces of flake and scraper; 44 pieces of flake and stone; 100 pieces of flake, hammerstone, and gravel; five flakes; one graver; two knives; 27 pieces of pebble, stone tools, and flake; one pestle; 27 points and flakes; 11 potsherds; one pottery fragment; two projectile points; five scrapers; seven spear points; 84 pieces of stone tools and flakes; and two stones.

The preponderance of the evidence shows that these human remains and associated funerary objects are of Native American origin and date sometime between the middle woodland period and the early historic era. Mercer County, NJ, is the aboriginal territory of the Lenape, or Delaware people. Moreover, archeological, historic, linguistic, oral traditional, and other lines of evidence support a cultural affiliation of these human remains and objects with the Delaware Nation, Oklahoma; Delaware Tribe of Indians; and the Stockbridge Munsee Community, Wisconsin.

Determinations Made by the University of California, Berkeley

Officials of the University of California, Berkeley have determined that:

• Pursuant to 25 U.S.C. 3001(9), the human remains described in this notice represent the physical remains of four individuals of Native American ancestry.

• Pursuant to 25 U.S.C. 3001(3)(A), the 713 objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice that wish to request transfer of control of these human remains and associated funerary objects should submit a written request with information in support of the request to Dr. Thomas Torma; University of California, Berkeley; Office of the Vice Chancellor for Research, 119 California Hall, Berkeley, CA 94720-1500, telephone (510) 672-5388, email t.torma@berkeley.edu, by July 8, 2021. After that date, if no additional requestors have come forward, transfer of control of the human remains and associated funerary objects to The Tribes may proceed.

The University of California, Berkeley is responsible for notifying The Tribes that this notice has been published.

Dated: May 25, 2021.
Melanie O'Brien,
Manager, National NAGPRA Program.

[FR Doc. 2021-11945 Filed 6-7-21; 8:45 am]

BILLING CODE 4312-52-P